DEPARTMENT OF AGRICULTURE

Animal and Plant Health Inspection Service

9 CFR Parts 2 and 3

[Docket No. APHIS-2012-0107]

Petition To Amend Animal Welfare Act Regulations To Prohibit Public Contact With Big Cats, Bears, and Nonhuman Primates

AGENCY: Animal and Plant Health Inspection Service, USDA.

ACTION: Notice; reopening of comment period.

SUMMARY: We are reopening the comment period for a petition requesting amendments to the Animal Welfare Act regulations and standards pertaining to physical contact with dangerous animals. We are especially interested in receiving public comments on the additional questions included in this notice. We are providing information about upcoming virtual stakeholder listening sessions and other efforts intended to gather additional public comment. This action will allow interested persons additional time to prepare and submit comments and further inform our thinking on the handling of dangerous animals.

DATES: The comment period for the notice published on August 5, 2013 (78 FR 47215) and reopened on October 24, 2013 (78 FR 63408) is reopened. We will consider all comments that we receive on or before August 31, 2016. The virtual listening sessions described in this notice will be held on Wednesday, June 29, 2016, from 1 p.m. to 3 p.m. eastern time (ET); Wednesday, July 6, 2016, from 1 p.m. to 3 p.m. ET; and Thursday, August 4, 2016, from 1 p.m. to 3 p.m. ET. Registration is required to participate in the listening sessions. Links for registering to participate in the virtual listening sessions are included in the Web site in footnote 2 below.

ADDRESSES: You may submit comments by either of the following methods:

• Federal eRulemaking Portal: Go to http://www.regulations.gov/#!docketDetail;D=APHIS-2012-0107.

• Postal Mail/Commercial Delivery: Send your comment to Docket No. APHIS-2012-0107, Regulatory Analysis and Development, PPD, APHIS, Station 3A-03.8, 4700 River Road Unit 118, Riverdale, MD 20737-1238.

Supporting documents and any comments we receive on this docket may be viewed at http://www.regulations.gov/#!docketDetail;D=APHIS-2012-0107 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Barbara Kohn, Senior Staff Veterinarian, Animal Care, APHIS, 4700 River Road Unit 84, Riverdale, MD 20737-1234; (301) 851-3751.

SUPPLEMENTARY INFORMATION:

On August 5, 2013, we published in the Federal Register (78 FR 47215-47217, Docket No. APHIS-2012-0107) a notice ¹ making available for comment a petition requesting amendments to the Animal Welfare Act (AWA) regulations and standards, including amendments to prohibit licensees from allowing individuals, with certain exceptions, from coming into direct or physical contact with big cats, bears, or nonhuman primates of any age, to define the term “sufficient distance,” and to prohibit the public handling of young or immature big cats, bears, and nonhuman primates.

¹ To view the notice, petition, and the comments we received, go to http://www.regulations.gov/#!docketDetail;D=APHIS-2012-0107.

Comments were required to be received on or before October 4, 2013. In a subsequent notice published October 24, 2013 (78 FR 63408), we reopened the comment period for an additional 45 days to November 18, 2013. We received 15,379 comments.

We are again reopening the comment period and will accept all comments we receive on or before August 31, 2016. We are especially interested in receiving public comments on the questions presented below. Responses to these questions will help further inform our thinking on the handling of dangerous animals:

1. What factors and characteristics should determine if a type of animal is suitable for public contact? When the Animal and Plant Health Inspection Service (APHIS) describes an animal as dangerous, there are certain characteristics we use to classify the animals, such as the size, strength, and instinctual behavior of an animal, risk of disease transmission between animals and humans (i.e., zoonoses such as Herpes B), and ability to safely and humanely handle (or control) the animal in all situations.

2. What animals should APHIS consider including under the definition of dangerous animals? For example, are all nonhuman primates dangerous? We currently identify some animals as dangerous, including, but not limited to, nondomestic felids (such as lions, tigers, jaguars, mountain lions, cheetahs, and any hybrids thereof), wolves, bears, certain nonhuman primates (such as gorillas, chimps, and macaques), elephants, hippopotamuses, rhinoceroses, moose, bison, camels, and common animals known to carry rabies.

3. What animals may pose a public health risk and why? What risks does public contact with dangerous animals present to the individual animal and the species and why?

4. What are the best methods of permanent, usable animal identification for dangerous animals?

5. What are the most humane training techniques to use with dangerous animals?

6. What scientific information (peer-reviewed journals preferred) is available that identifies the appropriate weaning ages for nondomestic felids, bears, elephants, wolves, nonhuman primates, and other dangerous animals?

7. What industry, organizational, or governmental standards have been published for the handling and care of dangerous animals?

8. What constitutes sufficient barriers for enclosures around dangerous animals to keep members of the public away from the animals? What methods (structures, distance, attendants, etc.) are needed to prevent entry of the public into an enclosure and keep the animal safe while still allowing for meaningful viewing?

In addition to inviting the public to comment on these questions, we are making available for the public a Web site ² containing background information on the topics explained in this notice. We also plan to convene three virtual listening sessions during the summer, allowing stakeholders to participate regardless of their location before the close of the public comment period. The dates of each virtual listening session are as follows:

² https://www.aphis.usda.gov/aphis/ourfocus/animalwelfare/Handling-Dangerous-Animals-Feedback-Page.

• June 29, 2016, 1 p.m. to 3 p.m. eastern time (ET);

• July 6, 2016, 1 p.m. to 3 p.m. ET; and

• August 4, 2016, 1 p.m. to 3 p.m. ET.

Persons wishing to participate in the virtual listening sessions are required to register prior to the session. Links for registering to participate in each listening session are included in the Web site in footnote 2. Upon registration, participants will be provided with a call-in number and access code. The virtual listening sessions will provide the public with opportunities to share their views on the handling of dangerous animals and provide us with additional material to inform our thinking on this topic.

Authority: 7 U.S.C. 2131-2159; 7 CFR 2.22, 2.80, and 371.7.

Done in Washington, DC, this 21st day of June 2016.
William H. Clay,
Acting Administrator, Animal and Plant Health Inspection Service.

[FR Doc. 2016-14976 Filed 6-23-16; 8:45 am]

BILLING CODE 3410-34-P